DEPARTMENT OF AGRICULTURE

Submission for OMB Review; Comment Request

November 4, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured to having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Cooperative State Research, Education, and Extension Service

Title: Assurance of Compliance with the Department of Agriculture Regulations Assuring Civil Rights Compliance Organization Information.

OMB Control Number: 0524-0026.

Summary of Collection: The Cooperative State Research, Education, and Extension Service (CSREES) has primary responsibility for providing linkages between the Federal and State components of a broad-based, national agricultural research, extension, and higher education system. Focused on national issues, its purpose is to represent the Secretary of Agriculture and the intent of Congress by administering formula and grant funds appropriated for agricultural research, extension, and higher education. Before awards can be made, certain information is required from applicant to assure compliance with the civil rights laws and to effectively assess the potential recipient's capacity to manage Federal funds. CSREES will collect information using forms CSREES 665, “Assurance of Compliance with the Department of Agriculture Regulations Assuring Civil Rights Compliance” and CSREES 666, “Organizational Information.”

Need and Use of the Information: CSREES will collect information to determine that applicants recommended for awards are responsible recipients of Federal funds and that applicant agrees they will offer programs to all eligible persons without regard to race, color, national origin, sex, disability, age, political beliefs, religion, marital status, or familial status. If the information were not collected, it would not be possible to determine that the prospective grantees are responsible and are complying with the Civil Rights Act.

Description of Respondents: Not-for-profit institutions; business or other for-profit; individuals or households; State, Local or Tribal Government.

Number of Respondents: 150.

Frequency of Responses: Reporting: On occasion.

Total Burden Hours: 1,020.

Foreign Agricultural Service

Title: Dairy Tariff-Rate Import Quota Licensing Regulation.

OMB Control Number: 0551-0001.

Summary of Collection: The Importation of most cheese made from cow's milk and certain non-cheese dairy articles (butter, dried milk, and butter substitutes) are subject to Tariff-rate Quotas (TRQs) and must be accompanied by an import license issue by the Department to enter at the lower tariff. Licenses are issued in accordance with the Department's Import Licensing Regulation (7 CFR part 6). Importers without licenses may enter these dairy articles, but are required to pay the higher tariff. The Department issues three types of licenses: Historical license (renewable), non-historical licenses (non-renewable); and preferred cheese licenses issued to importers designated by the government of a foreign country. The Foreign Agricultural Service (FAS) will collect information using several forms.

Need and Use of the Information: FAS will use the information to assure that the intent of the legislation is correctly administered and to determine eligibility to obtain benefits under the Import Regulation. If the information were collected less frequently, FSA would be unable to issue licenses on an annual basis in compliance with the Import Regulation.

Description of Respondents: Business or other-for-profit; individuals or households.

Number of Respondents: 540.

Frequency of Responses: Recordkeeping, reporting: Annually.

Total Burden House: 426.

Animal and Plant Health Inspection Service

Title: Phytosanitary Certificates for Imported Articles to Prevent Introduction of Potato Brown Rot.

OMB Control Number: 0579-0221.

Summary of Collection: The United States Department of Agriculture is responsible for preventing plant disease or insect pests from entering the United States, preventing the spread of pests and noxious weeds not widely distributed in the United State, and eradicating those imported pests when eradication is necessary. The Plant Protection Act authorizes the Department to carry out this mission. Also, the regulations in 7 CFR part 319 prohibit or restrict the importation of certain plants and plant products into the United States to prevent the introduction of plant pest. The Animal Plant and Health Inspection Service (APHIS) amended regulations to require a phytosanitary certificate to accompany articles of Pelargonium spp. and Solanum spp. imported into the United States, except those imported under the Canadian greenhouse restricted plant program. Recently, APHIS became aware that articles have Pelargonium spp. and Solanum spp. can serve as vectors for the transmission of potato brown rot. This bacterium is widely distributed in temperature areas of the world and could cause severe damage to U.S. production of potatoes, if it were to become established in the United States.

Need and Use of the Information: A Phytosanitary Certificate is required from each foreign country for articles Pelargonium spp. and Solanum spp. offered for importation into the United States. The certificate must contain either a declaration that the production facility in which the articles were produced has been found free, by testing, of R. solanacearum race 3 biovar 2 or that R. solanacearum race 3 biovar 2 is not present in the region in which the articles were produced. If the information is not collected, potato fields could become infected with the strain of R. solanacearum and this could drastically reduce or eliminate potato fields.

Description of Respondents: Business or other for-profit; State, Local or Tribal Government.

Number of Respondents: 1,040.

Frequency of Responses: Reporting: On occasion.

Total Burden Hours: 83,200.

Food and Nutrition Service

Title: Generic Clearance to Conduct Formative Research.

OMB Control Number: 0584-NEW.

Summary of Collection: Diet has a significant impact on the health of citizens and is linked to four leading causes of disease, which can reduce the quality of life and cause premature death. While these diet-related problems affect all Americans, they have a greater impact on the disadvantaged populations reached by many of the Food and Nutrition Service (FNS) programs. One of FNS' goals includes improving the nutrition of children and low-income families by providing access to program benefits and nutrition education. The basis of FNS' approach rests on the philosophies that all health communications and social marketing activities must be science-based, theoretically grounded, audience-driven, and results-oriented. FNS will collect information through formative research methods that will include focus groups, interviews (dyad, triad, telephone, etc.), surveys and web-based information gathering tools. The formative research is essential to advancing “Eat Smart Play Hard'' Campaign as well as other FNS nutrition education and outreach efforts.

Need and Use of the Information: FNS will collect information to provide formative input and feedback on how bets to reach and motivate the targeted population. The collected information will provide input regarding the potential use of materials and products during both the developmental and testing stages. FNS will also collect information regarding effective nutrition education and outreach initiatives being implemented by State agencies that administer nutrition assistance programs to address critical nutrition program access issues.

Description of Respondents: Individuals or households; Federal Government; State, Local or Tribal Government.

Number of Respondents: 14,500.

Frequency of Responses: Reporting: Other (one-time).

Total Burden Hours: 5,100.

Food and Nutrition Service

Title: Generic Clearance to Conduct Formative Research/CNPP.

OMB Control Number: 0584-NEW.

Summary of Collection: The Center for Nutrition Policy and Promotion (CNPP) of the U.S. Department of Agriculture is interested in conducting consumer research to identify key issues of concern related to understanding and use of the Dietary Guidelines for Americans and the Food Guide Pyramid. The mission of CNPP is to improve the nutritional status of Americans by developing and promoting science-based dietary guidance and economic information for the public. CNPP will be conducting a formative research with consumers to examine their understanding of the Dietary Guideline and Pyramid concepts and their use of and barriers to using both the Guidelines and the Pyramid. CNPP believes that obtaining qualitative information from consumer is fundamentally necessary for reassessing and revising the Dietary Guidelines for Americans and the Food Guide Pyramid. CNPP will collect information using focus groups, qualitative interviews, and Web-based surveys.

Need and Use of the Information: CNPP will collect information to develop practical and meaningful food and nutrition guidance for Americans to help improve their diets. The information will also be used to expand the knowledge base concerning how the Dietary Guidelines for Americans and the Food Guide Pyramid recommendations and messages are understood as well as how they can be used by consumers to improve diets while overcoming barriers.

Description of Respondents: Individuals or households; Federal Government; State, Local or Tribal Government.

Number of Respondents: 9,950.

Frequency of Responses: Reporting: Other (individual projects).

Total Burden Hours: 3,379.

Forest Service

Title: Objection to New Land Management Plans, Plan Amendments, and Plan Revisions.

OMB Control Number: 0596-0158.

Summary of Collection: The current appeals process for land and resource management plans and regional guides is set forth in 36 CFR 217.1-217.19 which provides an opportunity to challenge a Forest Service (FS) decision after the responsible official has made a final decision. A person objecting to a proposed or revised plan must file their objection in writing within 30 days of the publication, in a newspaper of record, with the reviewing. The objector must provide name, mailing address and telephone number; a statement of the information or decisions to which the person or organization objects; a description of the part or parts of the plan, plan amendment or plan revision being objected to; and a concise statement explaining why the responsible official's pending decision should not be adopted.

Need and Use of the Information: Information gathered in the objection process will be analyzed and responded to be a Forest Service official and possibly used to modify the decision on land and resource management planning. Without the information, the Agency's decision making will suffer from reduced public input and Agency relationships with the public will deteriorate.

Description of Respondents: Individuals or households; business or other for-profit; not-for-profit institutions; State, Local or Tribal Government.

Number of Respondents: 1,210.

Frequency of Responses: Reporting: Other (once).

Total Burden Hours: 1,210.

Foreign Agricultural Service

Title: CCC's Export Enhancement Program (EEP) and CCC's Dairy Export Incentive Program (DEIP).

OMB Control Number: 0551-0028.

Summary of Collection: The Foreign Agricultural Service (FAS) collects information from U.S. exporters in order to determine the exporters' eligibility for the Export Enhancement Program (EEP) and the Dairy Export Incentive Program (DEIP). Information can be faxed in by program applicants or applicants may register over the Internet.

Need and Use of the Information: Information collected from U.S. Exporters is used by FAS to determine whether an exporter has the experience necessary to perform under the proposed agreements. Other information is collected to determine compliance during the period of the agreement and to ensure that compensation in the appropriate amount is made. Without the application and related information, FAS would be unable to properly qualify U.S. Exporters for EEP and DEIP.

Description of Respondents: Business or other for-profit.

Number of Respondents: 26.

Frequency of Responses: Recordkeeping; reporting: On occasion.

Total Burden Hours: 1,803.

Economic Research Service

Title: An Assessment of the Impact of Medicaid Managed Care on WIC Program Coordination with Primary Care Services.

OMB Control Number: 0536-NEW.

Summary of Collection: The Economic Research Service (ERS) has responsibility, as authorized in the Agriculture, Rural Development, Food and Drug Administration, and Related Agencies Appropriation Act. Fiscal Year 2002 (Pub. L. 1-7-76) to conduct economic research on the operation of the Nation's food assistance programs, especially the Food Stamp Program, Child Nutrition Programs, and the Special Supplemental Nutrition Program for Women, Infants, and Children (WIC). The relationship between the WIC program and primary care services is an important component of the program. ERS is seeking detailed information that will determine the impact Medicaid managed care may have on the ability of WIC to coordinate services with primary care providers. The study will be conducted through telephone surveys and e-mail.

Need and Use of the Information: ERS will collect information to understanding the impact of Medicaid managed care on the coordination between WIC and primary care services in a way that will be relevant to public policymakers. Data from the study can be used by FNS to assess how well existing program policies and procedures facilitate coordination and referral between WIC and Medicaid managed care.

Description of Respondents: State, Local or Tribal Government; business or other for-profit.

Number of Respondents: 210.

Frequency of Responses: Reporting: On occasion.

Total Burden Hours: 132.

Forest Service

Title: National Survey on Recreation and the Environment 2005.

OMB Control Number: 0596-0127.

Summary of Collection: The National Survey on Recreation and the Environment (NSRE) 2005 will be the latest in a series of surveys conducted by the Forest Service (FS) which began in 1960 as the primary source of recreation data from the U.S. population. This information is vital for federal land managing agencies to obtain an understanding of the outdoor recreation participation levels and preferences of the American people so that effective policy making, planning, and decision-making can occur. Information from the survey is shared with and relied upon by organizations outside the federal government including educational institutions, private sector companies, state agencies, and other governmental organizations as the fundamental source of outdoor recreation trend and demand data on a national scale. The survey will be administered using a statistically valid sampling methodology through computer-assisted telephone interviewing techniques.

Need and Use of the Information: FS will collect information nationally from the public to assess trends in recreation participation over the years and to estimate demand for outdoor recreation among the U.S. population. FS and other federal agencies will use the information to develop long-range strategic plans, adjust programs and activities to meet customer needs and expectations and better manage federally owned lands.

Description of Respondents: Individuals or households.

Number of Respondents: 16,666.

Frequency of Responses: Reporting: Other (one time).

Total Burden Hours: 4,166.

National Agricultural Statistics Service

Title: List Sampling Frame Survey.

OMB Control Number: 0535-0140.

Summary of Collection: The primary objective of the National Agricultural Statistics Service (NASS) is to provide data users with timely and reliable agricultural production and economic statistic, as well as environmental and specialty agricultural related statistics. To accomplish this objective, NASS relies heavily on the use of sample surveys statistically drawn from “List Sampling Frame.” The List Sampling Frame is a database of names and addresses, with control data, that contains the components from which these samples can be drawn.

Need and Use of the Information: The List Sampling Frame is used to maintain a complete list of possible farm operations. The goal is to produce for each state a relatively complete, current, and unduplicated list of names to sample for agricultural operation surveys. Government agencies and educational institutions use the information from these surveys in planning, farm policy analysis, and program administration.

Description of Respondents: Farms; business or other for-profit.

Number of Respondents: 350,000.

Frequency of Responses: Reporting: On occasion.

Total Burden Hours: 22,500.

National Agriculture Statistics Service

Title: Childhood Injury and Adult Occupational Injury Survey of Minority Farm Operators.

OMB Control Number: 0535-0235.

Summary of Collection: The primary function of the National Agricultural Statistics Services (NASS) is to prepare and issue state and national estimates of crop and livestock production under the authority of 7 U.S.C. 2204(a). NASS will conduct a survey that will provide estimates of annual childhood and adult nonfatal injury incidence rates on minority farms, annual injury frequencies, and descriptive injury information for minority farm operators and their employees 20 years of age or older.

Need and Use of the Information: The National Institute of Occupational Safety Health will use the data to develop injury prevention materials for minority farm operators and technical reports. The objective of this project is to develop a uniform inquiry for determining the incidence rate and characteristics of childhood agricultural and adult occupational injuries occurring on minority operated farms in the United States.

Description of Respondents: Farms.

Number of Respondents: 50,000.

Frequency of Responses: Reporting: Other (One-Time).

Total Burden Hours: 12,093.

Rural Utilities Service

Title: Preloan Procedures and Requirements for Telecommunications Program.

OMB Control Number: 0572-0079.

Summary of Collection: The Rural Utilities Service (RUS) is a credit agency of the U.S. Department of Agriculture. It makes mortgage loans and loan guarantees to finance telecommunications, electric, water and waste facilities in rural areas. RUS manages loan programs in accordance with the Rural Electrification Act of 1936, 7 U.S.C. 901 et seq. (RE Act) and has a loan portfolio that totals approximately $42 billion. Section 201 of the RE Act authorizes the Administrator to make loans to qualified telephone companies for the purpose of providing telephone service to the widest practicable number of rural subscribers.

Need and Use of the Information: RUS will collect information using several forms to determine an applicant's eligibility to borrow from RUS under the terms of the RE Act. The information is also used to determine that the Government's security for loans made by RUS are reasonably adequate and that the loans will be repaid within the time agreed. Without the information, RUS could not effectively monitor each borrower's compliance with the loan terms and conditions to properly ensure continued loan security.

Description of Respondents: Business or other for-profit; not-for-profit institutions.

Number of Respondents: 50.

Frequency of Responses: Reporting: On occasion.

Total Burden Hours: 3,621.

Rural Utilities Service

Title: 7 CFR Part 1778, Emergency and Imminent Community Water Assistance Grants.

OMB Control Number: 0572-0110.

Summary of Collection: The Rural Utilities Service (RUS) is authorized under section 306A of the Consolidated Farm and Rural Development Act, (7 U.S.C. 1926(a)) to provide grants to rural areas and small communities to secure adequate quantities of safe water. Grants made under this program shall be made for 100 percent of the project cost can serve rural areas with population not in excess of 5,000 and household income should not exceed 100 percent of a State's non-metropolitan medial household income. Grants under this program may be made to public bodies and private nonprofit corporations serving rural areas.

Need and Use of the Information: RUS will collect the information from applicants applying for grants under 7 CFR part 1778. The information is unique to each borrower and emergency situation. Applicants must demonstrate that there is an imminent emergency or that a decline occurred within 2 years of the date the application was filed with Rural Development.

Description of Respondents: State, Local or Tribal Government; not-for-profit institutions.

Number of Respondents: 100.

Frequency of Responses: Reporting: On occasion.

Total Burden Hours: 400.

Sondra Blakey,
Departmental Information Collection Clearance Officer.

[FR Doc. 03-28218 Filed 11-7-03; 8:45 am]

BILLING CODE 3410-01-M